DEPARTMENT OF JUSTICE

Bureau of Prisons

Annual Determination of Average Cost of Incarceration

AGENCY: Bureau of Prisons, Justice.

ACTION: Notice.

SUMMARY: The fee to cover the average cost of incarceration for Federal inmates is $21,601.

EFFECTIVE DATE: March 19, 2002.

ADDRESSES: Office of General Counsel, Federal Bureau of Prisons, 320 First St., NW., Washington, DC 20405.

FOR FURTHER INFORMATION CONTACT: Sarah Qureshi, (202) 307-2105.

SUPPLEMENTARY INFORMATION: 28 CFR part 505 allows for assessment and collection of a fee to cover the average cost of incarceration for Federal inmates. We calculate this fee by dividing the number representing Bureau facilities' obligation (excluding activation costs) by the number of inmate-days incurred for preceding fiscal year, and then by multiplying the quotient by 365 (or, since 2000 was a leap year, by 366).

Under § 505.2, the Director of the Bureau of Prisons has reviewed the amount of the fee and has determined that, based upon fiscal year 2000 data, the fee to cover the average cost of incarceration for Federal inmates is $21,601.

Kathleen Hawk Sawyer,
Director, Bureau of Prisons.

[FR Doc. 02-6592 Filed 3-18-02; 8:45 am]

BILLING CODE 4410-05-P